Title 3—

The President

Proclamation 8392 of June 12, 2009

National Oceans Month, 2009

By the President of the United States of America

A Proclamation

Oceans are the Earth's dominant feature. They cover more than 70 percent of the planet's surface and affect our lives in a variety of ways. This month we celebrate the wonder of the oceans, and we commit to protecting and sustaining them for current and future generations.

The oceans are critical to supporting life. From the abyssal plains of the Pacific to the shallow coral reefs and seagrass beds of the Florida Keys, oceans support an incredible diversity of marine life and ecosystems. The base of the oceanic ecosystem provides most of the oxygen we breathe, so oceans are critical to our survival. These bodies of water also drive weather patterns and affect climate.

Our Nation's economy relies heavily on the oceans. Goods and services are transported across them constantly. They support countless jobs in an array of industries, including fishing, tourism, and energy. The economies of entire regions depend on the oceans.

The United States has been a leader in exploring and protecting this critical resource. We have gained new insights into the ocean ecosystems through research and monitoring. We have promoted innovative conservation efforts, such as setting aside special areas as national marine sanctuaries. We have also reduced overfishing, made great strides in reducing coastal pollution, and helped restore endangered species and degraded habitats.

My Administration continues to build upon this progress, and we are taking a more integrated and comprehensive approach to developing a national ocean policy that will guide us well into the future. This policy will incorporate ecosystem-based science and management and emphasize our public stewardship responsibilities. My Administration also is working to develop a systematic marine spatial planning framework for the conservation and sustainable use of ocean resources. I am committed to protecting these resources and ensuring accountability for actions that affect them.

During National Oceans Month, we celebrate these vast spaces and the myriad ways they sustain life. We also pledge to preserve them and commend all those who are engaged in efforts to meet this end.

NOW, THEREFORE, I, BARACK OBAMA, President of the United States of America, by virtue of the authority vested in me by the Constitution and the laws of the United States, do hereby proclaim June 2009 as National Oceans Month. I call upon all Americans to learn more about the oceans and what can be done to conserve them.

IN WITNESS WHEREOF, I have hereunto set my hand this twelfth day of June, in the year of our Lord two thousand nine, and of the Independence of the United States of America the two hundred and thirty-third.

[FR Doc. E9-14341

Filed 6-16-09; 8:45 am]

Billing code 3195-W9-P